SOCIAL SECURITY ADMINISTRATION

[Docket No: SSA-2023-0001]

Agency Information Collection Activities: Proposed Request

The Social Security Administration (SSA) publishes a list of information collection packages requiring clearance by the Office of Management and Budget (OMB) in compliance with Public Law 104-13, the Paperwork Reduction Act of 1995, effective October 1, 1995. This notice an extension of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA. Comments: https://www.reginfo.gov/public/do/PRAMain. Submit your comments online referencing Docket ID Number [SSA-2023-0001].

(SSA) Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2023-0001].

I. The information collection below is pending at SSA. SSA will submit it to OMB within 60 days from the date of this notice. To be sure we consider your comments, we must receive them no later than March 28, 2023. Individuals can obtain copies of the collection instrument by writing to the above email address.

Generic Clearance for the Collection of Improving Customer Experience (OMB Circular A-11, Section 280 Implementation)—0960-0818. As part of the Administration's commitment to improving customer service delivery, SSA invites the general public to take this opportunity to comment on the “Generic Clearance for the Collection of Improving Customer Experience” for approval under the Paperwork Reduction Act (PRA) (44 U.S.C. 3501 et seq.).

A modern, streamlined, and responsive customer experience means: raising government-wide customer experience to the average of the private sector service industry; developing indicators for high-impact Federal programs to monitor progress towards excellent customer experience and mature digital services; and providing the structure (including increasing transparency) and resources to ensure customer experience is a focal point for agency leadership.

This proposed information collection activity provides a means to garner customer and stakeholder feedback in an efficient, timely manner in accordance with the Administration's commitment to improving customer service delivery as discussed in section 280 of OMB Circular A-11 at https://www.whitehouse.gov/wp-content/uploads/2018/06/s280.pdf.

As discussed in OMB guidance, agencies should identify their highest-impact customer journeys (using customer volume, annual program cost, and/or knowledge of customer priority as weighting factors) and select touchpoints/transactions within those journeys to collect feedback.

These results will be used to improve the delivery of Federal services and programs. It will also provide government-wide data on customer experience that can be displayed on www.performance.gov to help build transparency and accountability of Federal programs to the customers they serve.

As a general matter, these information collections will not result in any new system of records containing privacy information and will not ask questions of a sensitive nature, such as sexual behavior and attitudes, religious beliefs, and other matters that are commonly considered private.

SSA Administration will only submit collections if they meet the following criteria.

• The collections are voluntary;

• The collections are low-burden for respondents (based on considerations of total burden hours or burden-hours per respondent) and are low-cost for both the respondents and the Federal Government;

• The collections are non-controversial and do not raise issues of concern to other Federal agencies;

• Any collection is targeted to the solicitation of opinions from respondents who have experience with the program or may have experience with the program in the near future;

• Personally identifiable information (PII) is collected only to the extent necessary and is not retained;

• Information gathered is intended to be used for general service improvement and program management purposes; and

• Upon agreement between OMB and the agency all or a subset of information may be released as part of A-11, section 280 requirements only on performance.gov. Summaries of customer research and user testing activities may be included in public-facing customer journey maps.

• Additional release of data must be coordinated with OMB.

These collections will allow for ongoing, collaborative and actionable communications between the Agency, its customers and stakeholders, and OMB as it monitors agency compliance on Section 280. These responses will inform efforts to improve or maintain the quality of service offered to the public. If this information is not collected, vital feedback from customers and stakeholders on services will be unavailable.

The respondents are Individuals and Households, Businesses and Organizations, State, Local or Tribal Government.

Type of Request: Extension of an OMB-approved information collection.

Affected Public: Individuals and households, businesses and organizations, State, Local or Tribal government.

Total Estimated Number of Respondents: 17,866,680.

Below we provide projected average estimates for the next three years:

Annual Respondents: 5,955,560.

Annual Responses: 1,142,475.

Frequency of Response: Once per request.

Average minutes per response: 12 minutes (11.51).

Estimated Annual Burden: 384,629 hours.

Dated: January 24, 2023.
Naomi Sipple,
Reports Clearance Officer, Social Security Administration.

[FR Doc. 2023-01680 Filed 1-26-23; 8:45 am]

BILLING CODE 4191-02-P